NATIONAL AERONAUTICS AND SPACE ADMINISTRATION

48 CFR Parts 1849 and 1852

NASA Federal Acquisition Regulation Supplement

AGENCY: National Aeronautics and Space Administration.

ACTION: Technical amendments.

SUMMARY: NASA is making technical amendments to the NASA FAR Supplement (NFS) to provide needed editorial changes.

DATES: Effective June 6, 2016.

FOR FURTHER INFORMATION CONTACT: Manuel Quinones, NASA, Office of Procurement, Contract and Grant Policy Division, via email at manuel.quinones@nasa.gov, or telephone (202) 358-2143.

SUPPLEMENTARY INFORMATION:

I. Background

As part of NASA's retrospective review of existing regulations pursuant to section 6 of Executive Order 13563, Improving Regulation and Regulatory Review, NASA conducted a review of it regulations and published a final rule in the Federal Register on March 12, 2015 (80 FR 12946). As published, this rule contains errors due to inadvertent omissions. A summary of changes follows:

• Subpart 1849.5 is removed in its entirety. Section 1849.5 titled Contract Termination Clauses contained a prescription at 1849.505-70 for which the associated clause at 1852.249-72 had been previously removed by a final rule published on March 12, 2015 (80 FR 12935).

• Section 1852.214-71 is revised to correct a paragraph designation.

List of Subject in 48 CFR Parts 1849 and 1852

Government procurement.

Manuel Quinones,
NASA FAR Supplement Manager.

Accordingly, 48 CFR parts 1849 and 1852 are amended as follows:

1. The authority citation for parts 1849 and 1852 continues to read as follows:

Authority: 51 U.S.C. 20113(a) and 48 CFR chapter 1.

PART 1849—TERMINATION OF CONTRACTS

Subpart 1849.5 [Removed]

2. Remove subpart 1849.5, consisting of sections 1849.505 and 1849.505-70.

PART 1852—SOLICITATION PROVISIONS AND CONTRACT CLAUSES

1852.214-71 [Amended]

3. Amend section 1852.214-71 introductory text by removing “1814.201-670(c)” and adding “1814.201-670(b)” in its place.

[FR Doc. 2016-13227 Filed 6-3-16; 8:45 am]

BILLING CODE 7510-13-P